NATIONAL SCIENCE FOUNDATION

Special Emphasis Panel in Materials Research; Notice of Meeting

In accordance with the Federal Advisory Committee Act (Pub. L. 92-463 as amended), the National Science Foundation announces the following meetings:

Name: Special Emphasis Panel in Materials Research (DMR) #1203.

Dates & Times: May 1, 2001, 8 a.m.-9 p.m., May 2, 2001; 8 a.m.-1 p.m.

Place: Florida A&M University, Tallahassee, Florida.

Type of Meeting: Closed.

Contact Person: Dr. Ulrich Strom, Program Director, Materials Research Science and Engineering Centers, Division of Materials Research, Room 1065, National Science Foundation, 4201 Wilson Boulevard, Arlington, VA 22230, Telephone (703) 292-4938.

Purpose of Meeting: To provide advice and recommendations concerning progress of the Collaborative to Integrate Research and Education (CIRE) between Florida A&M University and Carnegie Mellon University.

Agenda: Review and evaluate progress of the Collaborative to Integrate Research and Education (CIRE) between Florida A&M University and Carnegie Mellon University.

Reason for Closing: The work being reviewed may include information of a proprietary or confidential nature, including technical information; financial data, such as salaries and personal information concerning individuals associated with the proposals. These matters are exempt under 5 U.S.C. 552b(c), (4) and (6) of the Government in the Sunshine Act.

Reason for Late Notice: Conflicting schedules of members and the necessity to proceed with review of proposals.

Dated: April 19, 2001.
Susanne Bolton,
Committee Management Officer.

[FR Doc. 01-10172 Filed 4-24-01; 8:45 am]

BILLING CODE 7555-01-M